ENVIRONMENTAL PROTECTION AGENCY

40 CFR Parts 60 and 63

[EPA-HQ-OAR-2003-0074; FRL-8785-4]

RIN 2060-AG21

Performance Specification 16 for Predictive Emissions Monitoring Systems and Amendments to Testing and Monitoring Provisions

Correction

In final rule document E9-6275 beginning on page 12575 in the issue of Wednesday, March 25, 2009, make the following corrections:

Appendix B to Part 60 [Corrected]

1. On page 12582, in Appendix B to Part 60, Equation 11-23 should appear as follows:

2. On the same page, in the same appendix, in the second column, in the third line after Equation 11-31, “vdf” should read “vdf”.

3. On page 12585, in the same appendix, between Table 1-Factors for Calculation of Confidence and Tolerance Interval Half Ranges and amendatory instruction 4, insert a row of five stars as follows:

* * * * *

4. On page 12586, in the same appendix, in the third column, in paragraph 6.1.6, in the sixth line, “eater” should read “greater”.

5. On page 12588, the table is corrected to read as set forth below:

Ongoing Quality Assurance Tests
Test | PEMS regulatory purpose | Acceptability | Frequency
* * * * * * *
PEMS Training | All | If Fcritical ≥F, r ≥0.8 | Optional after initial and subsequent RATAs
* * * * * * *

6. On the same page, in the same appendix, in the first column, under heading 12.1 Nomenclature, the fourth definition is reprinted to read as follows:

“d = Arithmetic mean of differences for all runs”.

7. On the same page, in the same appendix, in the second column, under the same heading, the eighth definition is reprinted to read as follows:

“PEMS = Mean of the values provided by the PEMS at the normal operating range during the bias test.”

8. On the same page, in the same appendix, in the same column, under the same heading, the 12th definition is reprinted to read as follows:

“RM = Average RM value (or in the case of the RAA, the average portable analyzer value). In cases where the average emissions for the test are less than 50 percent of the applicable standard, substitute the emission standard value here in place of the average RM value”.

9. On page 12589, in the same appendix, in the third column, section “15.070” should read “15.0”.

10. On page 12589, in the same appendix, the table title “Table 16-1—T-Values For One-Sided, 97.5 Percent Confidence Intervals For Selected Sample Sizes*” should read “ Table 16-1—t-Values for One-sided, 97.5 Percent Confidence Intervals for Selected Sample Sizes*”.

11. On page 12590, in the same appendix, Table 16-2 should appear as follows:

Appendix A to Part 63 [Corrected]

12. On page 12591 in Appendix A to Part 63-Test Method, in the first column, immediately following paragraph 1.1, insert a row of five stars as follows:

* * * * *

[FR Doc. Z9-6275 Filed 4-22-09; 8:45 am]

BILLING CODE 1505-01-D